SMALL BUSINESS ADMINISTRATION

[Disaster Declaration # 20155 and # 20156; ALASKA Disaster Number AK-20001]

Presidential Declaration Amendment of a Major Disaster for the State of Alaska

AGENCY: Small Business Administration.

ACTION: Amendment 1.

SUMMARY: This is an amendment of the Presidential declaration of a major disaster for the State of ALASKA (FEMA-4763-DR), dated 03/15/2024.

Incident: Wrangell Cooperative Association—Severe Storm, Landslides, and Mudslides.

Incident Period: 11/20/2023.

DATES: Issued on 04/24/2024.

Physical Loan Application Deadline Date: 05/20/2024.

Economic Injury (EIDL) Loan Application Deadline Date: 12/16/2024.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: The notice of the President's major disaster declaration for the State of ALASKA, dated 03/15/2024, is hereby amended to extend the deadline for filing applications for physical damages as a result of this disaster to 05/20/2024.

All other information in the original declaration remains unchanged.

(Catalog of Federal Domestic Assistance Number 59008)

Francisco Sánchez, Jr.,
Associate Administrator, Office of Disaster Recovery & Resilience.

[FR Doc. 2024-09359 Filed 4-30-24; 8:45 am]

BILLING CODE 8026-09-P